SECURITIES AND EXCHANGE COMMISSION

[Release No. 34-95196; File Nos. SR-NYSE-2021-67, SR-NYSEAMER-2021-43, SR-NYSEArca-2021-97, SR-NYSECHX-2021-17, SR-NYSENAT-2021-23]

Self-Regulatory Organizations; New York Stock Exchange LLC, NYSE American LLC, NYSE Arca, Inc., NYSE Chicago, Inc., and NYSE National, Inc.; Notice of Withdrawal of Proposed Rule Changes To Amend Their Respective Fee Schedules To Offer Colocation Users Wireless Connectivity to CME Group Data and Establish Associated Fees

July 5, 2022.

On November 3, 2021, New York Stock Exchange LLC (“NYSE”), NYSE American LLC, NYSE Arca, Inc., NYSE Chicago, Inc., and NYSE National, Inc. (collectively, the “Exchanges”) each filed with the Securities and Exchange Commission (“Commission”), pursuant to Section 19(b)(1) of the Securities Exchange Act of 1934 (“Exchange Act” or “Act”) ¹ and Rule 19b-4 thereunder,² a proposed rule change to amend their respective fee schedules for colocation services to offer wireless connectivity to CME Group, Inc. (“CME Group”) market data (“CME Group Data”) and establish associated fees. Each proposed rule change was immediately effective upon filing with the Commission pursuant to Section 19(b)(3)(A) of the Act.³ The proposed rule changes were published for comment in the Federal Register on November 18, 2021.⁴

¹ 15 U.S.C. 78s(b)(1).

² 17 CFR 240.19b-4.

³ 15 U.S.C. 78s(b)(3)(A).

⁴ See Securities Exchange Act Release Nos. 93563 (November 12, 2021), 86 FR 64561 (November 18, 2021) (SR-NYSE-2021-67) (“Notice”); 93561 (November 12, 2021), 86 FR 64580 (November 18, 2021) (SR-NYSEAMER-2021-43); 93564 (November 12, 2021), 86 FR 64570 (November 18, 2021) (SR-NYSEArca-2021-97); 93565 (November 12, 2021), 86 FR 64556 (November 18, 2021) (SR-NYSECHX-2021-17); and 93567 (November 12, 2021), 86 FR 64576 (November 18, 2021) (SR-NYSENAT-2021-23). Comments received on the Notices are available on the Commission's website at: https://www.sec.gov/comments/sr-nyse-2021-67/srnyse202167.htm. For ease of reference, citations to the Notice(s) are to the Notice for SR-NYSE-2021-67.

On December 17, 2021, the Division of Trading and Markets, acting on behalf of the Commission by delegated authority, issued an order instituting proceedings under Section 19(b)(2)(B) of the Act ⁵ to determine whether to approve or disapprove the proposed rule changes.⁶ On May 12, 2022, pursuant to Section 19(b)(2) of the Act,⁷ the Commission designated a longer period for Commission action on the proceedings to determine whether to approve or disapprove the proposed rule changes.⁸

⁵ 15 U.S.C. 78s(b)(2)(B).

⁶ See Securities Exchange Act Release No. 93810 (December 17, 2021), 86 FR 73026 (December 23, 2021).

⁷ 15 U.S.C. 78s(b)(2).

⁸ See Securities Exchange Act Release No. 94899 (May 12, 2022), 87 FR 30321 (May 18, 2022). The Commission designated July 16, 2022, as the date by which it should approve or disapprove the proposed rule changes.

On June 30, 2022, the Exchanges withdrew their respective proposed rule changes (File Nos. SR-NYSE-2021-67, SR-NYSEAMER-2021-43, SR-NYSEArca-2021-97, SR-NYSECHX-2021-17, SR-NYSENAT-2021-23).

For the Commission, by the Division of Trading and Markets, pursuant to delegated authority.⁹
⁹ 17 CFR 200.30-3(a)(12).
J. Matthew DeLesDernier,
Assistant Secretary.

[FR Doc. 2022-14636 Filed 7-8-22; 8:45 am]

BILLING CODE 8011-01-P